DEPARTMENT OF COMMERCE

Foreign-Trade Zones Board

[B-7-2013]

Notification of Proposed Production Activity; GE Appliances; Subzone 29C (Electric Water Heaters), Louisville, KY

GE Appliances, operator of Subzone 29C, submitted a notification of proposed production activity for its facility in Louisville, Kentucky. The notification conforming to the requirements of the regulations of the Foreign-Trade Zones Board (15 CFR 400.22) was received on January 7, 2013.

The subzone (“GE Appliance Park”) currently has authority to produce household appliances, including dishwashers, refrigerator-freezers, freezers, apparel washing machines and dryers, electric ranges, and air-conditioners, under FTZ procedures using certain foreign components. The current request involves the production of electric water heaters. Pursuant to 15 CFR 400.14(b) of the regulations, FTZ activity would be limited to the specific foreign-status materials and components and specific finished products described in the submitted notification (as described below) and subsequently authorized by the FTZ Board.

Production under FTZ procedures could exempt GE Appliances from customs duty payments on the foreign status components used in export production. On its domestic sales, GE Appliances would be able to choose the duty rate during customs entry procedures that applies to electric hot water heaters (free) for the foreign status inputs noted below. Customs duties also could possibly be deferred or reduced on foreign status production equipment.

Components sourced from abroad include: Articles of rubber (e.g., containers, caps/lids, knobs, dampeners), fan motors, fans, filter/dryers, expansion valves, accumulators, parts of electric water heaters, capacitors, sensors, switches, electronic controllers/panels/consoles/boards, anodes, wiring harnesses, and thermistors (duty rate ranges from free to 4.7%).

Public comment is invited from interested parties. Submissions shall be addressed to the Board's Executive Secretary at the address below. The closing period for their receipt is March 13, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: January 25, 2013.
Andrew McGilvray,
Executive Secretary.

[FR Doc. 2013-02201 Filed 1-31-13; 8:45 am]

BILLING CODE P